OFFICE OF PERSONNEL MANAGEMENT

5 CFR Part 532

RIN 3206-AJ64

Prevailing Rate Systems; Redefinition of the Scranton-Wilkes-Barre, PA, Appropriated Fund Wage Area

AGENCY: Office of Personnel Management.

ACTION: Final rule.

SUMMARY: The Office of Personnel Management is issuing a final rule to redefine Tioga County, Pennsylvania, from the Scranton-Wilkes-Barre, PA, appropriated fund Federal Wage System (FWS) wage area to the Rochester, New York, FWS wage area. This redefinition will better reflect economic trends in the area, which indicate that a linkage exists between Tioga County and the Rochester wage area. The change also will conform more accurately to the regulatory criteria we use to define FWS wage areas.

DATES: Effective Date February 5, 2003. Affected employees will be moved to the wage schedule for the Rochester wage area on the first day of the first applicable pay period beginning on or after the effective date of this final rule.

FOR FURTHER INFORMATION CONTACT: Chenty I. Carpenter at (202) 606-2838; FAX at (202) 606-4264; or e-mail at cicarpen@opm.gov.

SUPPLEMENTARY INFORMATION: On August 1, 2002, the Office of Personnel Management (OPM) published a proposed rule to redefine Tioga County, Pennsylvania, from the Scranton-Wilkes-Barre, PA, appropriated fund Federal Wage System (FWS) wage area to the Rochester, New York, FWS wage area (67 FR 49878). The proposed rule provided a 30-day period for public comment, during which OPM received no comments.

Tioga County is currently an area of application in the Scranton-Wilkes-Barre wage area. This change to redefine the county to the Rochester wage area is necessary because economic trends indicate more linkage between Tioga County and the Rochester survey area than between Tioga County and the Scranton-Wilkes-Barre survey area.

OPM considers the following regulatory criteria in 5 CFR 532.211 when defining FWS wage area boundaries:

(i) Distance, transportation facilities, and geographic features;

(ii) Commuting patterns; and

(iii) Similarities in overall population, employment, and the kinds and sizes of private industrial establishments.

Based on our analysis of the regulatory criteria for defining appropriated fund FWS wage areas, we find that Tioga County would be more appropriately defined as part of the Rochester wage area. The distance criterion favors the Rochester wage area more than the Scranton-Wilkes-Barre wage area. The commuting patterns criterion favors the Rochester wage area. An additional factor we considered was that Tioga County is adjacent to the Rochester survey area, but not to the Scranton-Wilkes-Barre survey area. This change will affect about 10 Department of the Army employees and 1 Department of the Interior employee.

The Federal Prevailing Rate Advisory Committee (FPRAC), the national labor-management committee that advises OPM on FWS pay matters, recommended this change by consensus. Based on its review of the regulatory criteria for defining FWS wage areas, FPRAC recommended no other changes in the geographic definitions of the Rochester or Scranton-Wilkes-Barre FWS wage areas.

Regulatory Flexibility Act

I certify that this regulation will not have a significant economic impact on a substantial number of small entities because it affects only Federal agencies and employees.

List of Subjects in 5 CFR Part 532

Administrative practice and procedure, Freedom of information, Government employees, Reporting and recordkeeping requirements, Wages.

Office of Personnel Management.
Kay Coles James,
Director.

Accordingly, the Office of Personnel Management is amending 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of New York is amended by revising the listing for Rochester; and for the State of Pennsylvania, by revising the listing for Scranton-Wilkes-Barre, to read as follows:

Appendix C to Subpart B of Part 532—Appropriated Fund Wage and Survey Areas

* * * * *

New York

* * * * *

Rochester

Survey Area

New York:

Livingston

Monroe

Ontario

Orleans

Steuben

Wayne

Area of Application. Survey Area Plus

New York:

Allegany

Chemung

Genesee

Schuyler

Seneca

Wyoming

Yates

Pennsylvania:

Tioga

* * * * *

Pennsylvania

* * * * *

Scranton-Wilkes-Barre

Survey Area

Pennsylvania:

Lackawanna

Luzerne

Monroe

Area of Application. Survey Area Plus

Pennsylvania:

Bradford

Carbon

Lycoming (Excluding Allenwood Federal Prison Camp)

Pike

Sullivan

Susquehanna

Wayne

Wyoming

* * * * *

[FR Doc. 03-215 Filed 1-3-03; 8:45 am]

BILLING CODE 6325-39-P